DEPARTMENT OF COMMERCE

National Oceanic and Atmospheric Administration

[I.D. 062804D]

Pacific Fishery Management Council; Public Meeting

AGENCY: National Marine Fisheries Service (NMFS), National Oceanic and Atmospheric Administration (NOAA), Commerce.

ACTION: Notice of public meetings.

SUMMARY: The Pacific Fishery Management Council's (Council) Salmon Technical Team (STT) will hold a work session, which is open to the public, to review proposed conservation objectives for Sacramento winter chinook and to begin compilation of an updated Historical Salmon Fishery Data document.

DATES: The work session will be held Wednesday, July 21, 2004, from 8 a.m. to 4 p.m., and Thursday, July 22, 2004, from 8 a.m. to 4 p.m.

ADDRESSES: The work session will be held at the Pacific Fishery Management Council, 7700 NE Ambassador Place, Suite 200, Portland, OR 97220-1384.

Council address: Pacific Fishery Management Council, 7700 NE. Ambassador Place, Suite 200, Portland, OR 97220-1384.

FOR FURTHER INFORMATION CONTACT: Mr. Chuck Tracy, (503) 820-2280.

SUPPLEMENTARY INFORMATION: The purpose of the work session is to review a proposed harvest management matrix for Sacramento winter chinook; begin compilation of an historical summary of ocean salmon fisheries; and prioritize and schedule upcoming tasks.

Although non-emergency issues not contained in the meeting agenda may come before the STT for discussion, those issues may not be the subject of formal STT action during this meeting. STT action will be restricted to those issues specifically listed in this notice and any issues arising after publication of this notice that require emergency action under section 305(c) of the Magnuson-Stevens Fishery Conservation and Management Act, provided the public has been notified of the STT's intent to take final action to address the emergency.

Special Accommodations

This meeting is physically accessible to people with disabilities. Requests for sign language interpretation or other auxiliary aids should be directed to Ms. Carolyn Porter at (503) 820-2280 at least 5 days prior to the meeting date.

Dated: June 29, 2004.
Alan D. Risenhoover,
Acting Director, Office of Sustainable Fisheries, National Marine Fisheries Service.

[FR Doc. E4-1472 Filed 7-1-04; 8:45 am]

BILLING CODE 3510-22-S